ENVIRONMENTAL PROTECTION AGENCY

40 CFR Part 63

[EPA-R06-OAR-2008-0074; FRL-9919-73-Region 6]

National Emission Standards for Hazardous Air Pollutants; Delegation of Authority to Texas

AGENCY: Environmental Protection Agency (EPA).

ACTION: Proposed rule.

SUMMARY: The Texas Commission on Environmental Quality (TCEQ) has submitted updated regulations for receiving delegation of EPA authority for implementation and enforcement of National Emission Standards for Hazardous Air Pollutants (NESHAP) for all sources (both part 70 and non-part 70 sources). These regulations apply to certain NESHAP promulgated by the Environmental Protection Agency (EPA) at 40 CFR part 63, as amended between May 25, 2005 and April 24, 2013. The delegation of authority under this action does not apply to sources located in Indian Country. EPA is providing notice proposing to approve the delegation of certain NESHAPs to TCEQ.

DATES: Written comments on this proposed rule must be received on or before December 26, 2014.

ADDRESSES: Comments may be mailed to Mr. Rick Barrett, Air Permits Section (6PD-R), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Mr. Rick Barrett, (214) 665-7227; email: barrett.richard@epa.gov.

SUPPLEMENTARY INFORMATION: In the final rules section of this Federal Register, EPA is approving TCEQ's request for delegation of authority to implement and enforce certain NESHAP for all sources (both part 70 and non-part 70 sources). TCEQ has adopted certain NESHAP by reference into Texas's state regulations. In addition, EPA is waiving its notification requirements so sources will only need to send notifications and reports to TCEQ.

The EPA is taking direct final action without prior proposal because EPA views this as a noncontroversial action and anticipates no adverse comments. A detailed rationale for this proposed approval is set forth in the preamble to the direct final rule. If no adverse comments are received in response to this action, no further activity is contemplated. If EPA receives adverse comments, the direct final rule will be withdrawn, and all public comments received will be addressed in a subsequent final rule based on this proposed rule. EPA will not institute a second comment period. Any parties interested in commenting must do so at this time. If EPA receives adverse comment on an amendment, paragraph, or section of this rule and if that provision may be severed from the remainder of the rule, EPA may adopt as final those provisions of the rule that are not the subject of an adverse comment.

For additional information, see the direct final rule which is located in the Rules section of this Federal Register.

Dated: November 12, 2014.
Bill Luthans,
Acting Director, Multimedia Planning and Permitting Division, Region 6.

[FR Doc. 2014-27910 Filed 11-24-14; 8:45 am]

BILLING CODE 6560-50-P